DEPARTMENT OF TRANSPORTATION

Federal Railroad Administration

[Docket Number FRA-2019-0045]

Notice of Application for Approval of Discontinuance or Modification of a Railroad Signal System

Under part 235 of Title 49 of the Code of Federal Regulations (CFR) and 49 U.S.C. 20502(a), this document provides the public notice that by a document dated May 28, 2019, the Consolidated Rail Corporation (Conrail) petitioned the Federal Railroad Administration (FRA) seeking approval to discontinue or modify a signal system. FRA assigned the petition Docket Number FRA-2019-0045.

Applicant: Consolidated Rail Corporation, Mr. Steven J. Vant, Signal Engineer, 1000 Howard Boulevard, Mt. Laurel, NJ 08054.

Specifically, Conrail requests permission to discontinue cab signals within control point (CP) John at milepost (MP) 4.7; discontinue cab signals between CP MY at MP 0.5 and CP John; remove circuit controllers between CP MY and CP John, and change method of operation from NORAC Rule 261 to NORAC Rule 97, Running Track Rule, which allows for operation at Restricted Speed, on the Morrisville Line, South Jersey District.

CP John is controlled and maintained by Conrail. CP MY is controlled and maintained by Amtrak. Trackage between CP MY and CP John is controlled and maintained by Conrail. The signal system consists of wayside signals at CP MY and CP John governing movement into a single block between the two interlockings. There are no wayside signals between CP MY and CP John. There are cab signals, which would be removed. Conrail states the majority of the track has poor shunting due to rusty rail which has forced Conrail to disable the signal system.

A copy of the petition, as well as any written communications concerning the petition, is available for review online at http://www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by August 5, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at http://www.dot.gov/privacy. See also http://www.regulations.gov/#!privacyNotice for the privacy notice of regulations.gov.

Issued in Washington, DC.
John Karl Alexy,
Acting Associate Administrator, Office of Railroad Safety.

[FR Doc. 2019-13068 Filed 6-19-19; 8:45 am]

BILLING CODE 4910-06-P